DEPARTMENT OF HOMELAND SECURITY

United States Immigration and Customs Enforcement

[1653-0037]

Agency Information Collection Activities; Extension, Without Change, of an Existing Information Collection: Notice to Student or Exchange Visitor

AGENCY: U.S. Immigration and Customs Enforcement, Department of Homeland Security.

ACTION: 60-Day notice.

SUMMARY: The Department of Homeland Security, U.S. Immigration and Customs Enforcement (USICE), is submitting the following information collection request for review and clearance in accordance with the Paperwork Reduction Act of 1995. The information collection is published in the Federal Register to obtain comments from the public and affected agencies.

DATES: Comments are encouraged and will be accepted for sixty days until December 31, 2018.

ADDRESSES: Written comments and suggestions regarding items contained in this notice and especially with regard to the estimated public burden and associated response time should be directed to the Department of Homeland Security (DHS), Scott Elmore, Forms Management Office, U.S. Immigrations and Customs Enforcement, 801 I Street NW, Mailstop 5800, Washington, DC 20536-5800.

SUPPLEMENTARY INFORMATION: Written comments and suggestions from the public and affected agencies concerning the proposed collection of information should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved information collection.

(2) Title of the Form/Collection: Notice to Student or Exchange Visitor.

(3) Agency form number, if any, and the applicable component of the Department of Homeland Security sponsoring the collection: Form I-515A; U.S. Immigration and Customs Enforcement.

(4) Affected public who will be asked or required to respond, as well as a brief abstract: Primary: Individuals or Households. An academic nonimmigrant student (F-1), vocational nonimmigrant student (M-1), exchange visitor (J-1), or dependent (F-2, M-2 or J-2) seeking admission into the United States as a nonimmigrant under section 101(a)(15) of the Immigration and Nationality Act (Act) is required to present certain documentation at the port of entry. If the F, J or M nonimmigrant is missing any piece of this documentation, a Department of Homeland Security (DHS) Customs and Border Protection (CBP) officer at the port of entry has discretion to issue the F, J or M nonimmigrant a Form I-515A, Notice to Student or Exchange Visitor, which allows the nonimmigrant temporary entry into the United States for 30 days in order for the nonimmigrant to compile and submit the documentation. The Form I-515A provides a list of the documentation the F, J or M nonimmigrant will need to provide to DHS. The F, J or M nonimmigrant must send the documentation to the Student and Exchange Visitor Program (SEVP), an office of the DHS agency, U.S. Immigration and Customs Enforcement (ICE). SEVP must receive a complete response within 30 days of the F, J or M nonimmigrant's admission. Form I-515A collects information authorized by 8 U.S.C. 1101 and 1184 to confirm that the F, J or M nonimmigrant is eligible for admission into the United States. The Form I-515A enables CBP to avoid having to deny entry into the United States to an otherwise eligible F, J or M nonimmigrant.

(5) An estimate of the total number of respondents and the amount of time estimated for an average respondent to respond: 4,744 responses at 10 minutes (0.166 hours) per response.

(6) An estimate of the total public burden (in hours) associated with the collection: 788 annual burden hours.

Dated: October 29, 2018.
Scott Elmore,
Program Manager, Forms Management Office, Office of the Chief Information Officer, U.S. Immigration and Customs Enforcement, Department of Homeland Security.

[FR Doc. 2018-23906 Filed 10-31-18; 8:45 am]

BILLING CODE 9111-28-P